DEPARTMENT OF HEALTH AND HUMAN SERVICES

Administration for Children and Families

[(OMB #0970-0484)]

Submission for OMB Review; Evaluation of the Child Welfare Capacity Building Collaborative

AGENCY: Children's Bureau; Administration for Children and Families; HHS.

ACTION: Request for public comment.

SUMMARY: The Administration for Children and Families (ACF) is requesting a three-year extension of 20 previously approved forms that include satisfaction surveys; a leadership interview protocol; a web-based collaboration survey; assessment tools; and service-specific feedback forms (OMB #0970-0484, expiration 8/31/2019). There are no changes to these forms. An extension is not being sought for four instruments originally included (Tribal Organizational Assessment Interviews: Caseworker Interview; Community Provider Interview; Community Member/Elder Interview; Family Interview).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget; Paperwork Reduction Project; Email: OIRA_SUBMISSION@OMB.EOP.GOV; Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The Evaluation of the Child Welfare Capacity Building Collaborative is sponsored by the Children's Bureau, Administration for Children and Families of the U.S. Department of Health and Human Services. The Capacity Building Collaborative includes three centers (Center for States, Center for Tribes, Center for Courts) funded by the Children's Bureau to provide national child welfare expertise and evidence-informed training and technical assistance services to state, tribal and territorial public child welfare agencies and Court Improvement Programs (CIPs). The Centers offer a wide array of services including, but not limited to: Web-based content and resources, product development and dissemination, self-directed and group-based training, virtual learning and peer networking events, and tailored consultation and coaching. During the project period, Center services are evaluated by both Center-specific evaluations and a Cross-Center Evaluation. The Center-specific evaluations are designed to collect data on Center-specific processes and outcomes, which are used to support service delivery and continuous quality improvement. The Cross-Center Evaluation is designed to respond to a set of cross-cutting evaluation questions posed by the Children's Bureau. The Cross-Center Evaluation examines: How and to what extent key partners across and within Centers collaborate; whether Center capacity building service interventions are evaluable; the degree to which Centers follow common protocols; what service interventions are delivered and in what services do jurisdictions participate; how satisfied recipients are with services; what outcomes are achieved in jurisdictions receiving Center services and under what conditions are services effective; and what are the costs of services.

The Cross-Center Evaluation uses a longitudinal, mixed methods approach to evaluate Center services as they develop and mature over the course of the study. Multiple data collection strategies are used to efficiently capture quantitative and qualitative data to enable analyses that address each evaluation question. Cross-Center Evaluation data sources for this effort include (1) satisfaction surveys to assess recipient satisfaction with services, such as the Learning Experiences Satisfaction Survey; (2) a leadership interview used to assess perceptions of state child welfare directors, tribal child welfare directors, and CIP directors; and (3) a web-based collaboration survey used to assess perceptions of collaboration within and between the capacity building centers. Center-specific data sources for this effort include (1) assessment tools such as the Center for Tribes Needs and Fit Exploration Tools; and (2) service-specific feedback forms, such as the Center for States Intensive Projects instrument and the Center for Courts CQI Workshops instrument.

Respondents: Respondents of data collection instruments include (1) child welfare and judicial professionals who use the Collaborative's products and online courses, that participate in webinars, virtual or in-person trainings, or peer events, and that receive brief or intensive tailored services from the Centers; (2) all State child welfare directors, and Tribal child welfare directors, and CIP coordinators that receive services from the Centers; and (3) directors and staff of the three Capacity Building Centers.

Annual Burden Estimates
Instrument | Total number respondents | Annual number of respondents | Number annual responses per respondent | Average burden hours per response | Total annual burden hours
Webpages and Products Satisfaction Survey | 4,680 | 1,560 | 1 | .08 | 125
Learning Experiences Satisfaction Survey (single) ¹ | 1,500 | 500 | 1 | .33 | 165
Learning Experiences Satisfaction Survey (intensive) ² | 2,700 | 900 | 1 | .08 | 72
Webinars, Events, and In-Person Meetings Satisfaction Survey | 16,506 | 5,502 | 1 | .08 | 440
Assessment & Capacity Building Plan Satisfaction Survey | 1,350 | 450 | 1 | .066 | 30
Center for Tribes Contact Form | 150 | 50 | 1 | .05 | 3
Center for Tribes Demographic Survey | 60 | 20 | 1 | 1.75 | 35
Center for Tribes Needs and Fit Exploration Tool Phase 1 | 180 | 30 | 1 | 1.5 | 45
Center for Tribes Needs and Fit Exploration Tool Phase 2 | 75 | 25 | 1 | 3.0 | 75
Center for States Information and Referral Survey | 36 | 12 | 1 | .05 | 1
Center for States Intensive Projects Survey | 990 | 330 | 1 | .33 | 109
Center for States Constituency Groups Surveys | 1,200 | 400 | 1 | .33 | 132
Center for States Brief Tailored Services Survey | 375 | 125 | 1 | .33 | 41
CIP Annual Meeting Survey | 600 | 200 | 1 | .13 | 26
Center for Courts CQI Workshops Survey | 144 | 48 | 1 | .17 | 8
Leadership Interview—States, Territories | 56 | 19 | *2 | 1 | 38
Leadership Interview—CIPs | 52 | 17 | *2 | 1 | 34
Leadership Interview—Tribes | 39 | 13 | *2 | 1.25 | 33
Leadership Interview Part II—Tribes | 39 | 13 | *2 | .67 | 17
Annual Collaboration Survey | 690 | 230 | 1 | .36 | 83
Total |  |  |  |  | 1,512
¹ For Learning Experiences that consist of a single event (e.g., on-line session or in-person training).
² For more intensive Learning Experiences that require administration of multiple surveys over a series of events, modules, or units.
* Reflects the total number of responses per the extension period (three years) rather than the number of annual responses per respondent.

Estimated Total Annual Burden Hours: 1,512.

Authority: 42 U.S.C. 5106.

Mary B. Jones,
ACF/OPRE Certifying Officer.

[FR Doc. 2019-17775 Filed 8-16-19; 8:45 am]

BILLING CODE 4184-01-P